Title 3—

The President

Proclamation 9603 of May 1, 2017

National Mental Health Awareness Month, 2017

By the President of the United States of America

A Proclamation

National Mental Health Awareness Month is a time to recognize the millions of American families affected by mental illness and to redouble our efforts to ensure that those who are suffering get the care and treatment they need. Nearly 10 million Americans suffer from a serious mental illness, such as schizophrenia, bipolar disorder, or major depression. Unfortunately, approximately 60 percent of adults and 50 percent of adolescents with mental illness do not get the treatment or other services they need. As a result, instead of receiving ongoing expert psychiatric care, these individuals often find themselves in emergency rooms, prisons, or living on the streets.

This month, and for the course of my Administration, I am committed to working with the Department of Health and Human Services, States, and communities throughout the country to find a better answer for the millions of Americans who need mental health services and their families. We must further empower States, law enforcement, first responders, doctors, and families to help those with the most severe mental illnesses; to ensure that people with mental illness have access to evidence-based treatment and services; and to fight the stigma associated with mental illness, which can prevent people from seeking care. We must also resolve to enhance our understanding of mental illness and its relationship to other complex societal challenges, including homelessness, substance abuse, and suicide; and we reaffirm our commitment to improving prevention, diagnosis, and treatment through innovative medical strategies.

Addressing substance abuse, addiction, and overdose is often critical to improving mental health outcomes. An estimated 8.1 million adults in America suffering with a mental illness also struggle with substance abuse. Many of those who struggled with both were among the 52,000 people in our country who died from a drug overdose in 2015. Approximately 44,000 Americans took their own lives in the past year, a preventable tragedy that frequently correlates with mental illness and substance abuse.

On May 4, 2017, my Administration, along with more than 160 organizations and 1,100 communities, will commemorate National Children's Mental Health Awareness Day. At this national event, Health and Human Services Secretary Tom Price will give special recognition awards to Awareness Day Honorary Chairpersons and United States Olympic champions Michael Phelps and Allison Schmitt for speaking openly about their behavioral health challenges and for encouraging young Americans to lead healthy lives. The event will help promote the importance of National Mental Health Awareness Month, providing Americans with resources related to treatment and services for mental health and substance abuse.

No American should suffer in silence and solitude. During Mental Health Awareness Month, I encourage all Americans to seek to better understand mental illness and to look for opportunities to help those with mental health issues. We must support those in need and remain committed to hope and healing. Through compassion and committed action, we will enrich the spirit of the American people and improve the well-being of our Nation.

NOW, THEREFORE, I, DONALD J. TRUMP, President of the United States of America, by virtue of the authority vested in me by the Constitution and the laws of the United States, do hereby proclaim May 2017 as National Mental Health Awareness Month. I call upon all Americans to support citizens suffering from mental illness, raise awareness of mental health conditions through appropriate programs and activities, and commit our Nation to innovative prevention, diagnosis, and treatment.

IN WITNESS WHEREOF, I have hereunto set my hand this first day of May, in the year of our Lord two thousand seventeen, and of the Independence of the United States of America the two hundred and forty-first.

[FR Doc. 2017-09209

Filed 5-3-17; 11:15 am]

Billing code 3295-F7-P